SMALL BUSINESS ADMINISTRATION

[Disaster Declaration #17677 and #17678; ILLINOIS Disaster Number IL-00071]

Presidential Declaration of a Major Disaster for the State of Illinois

AGENCY: Small Business Administration.

ACTION: Notice.

SUMMARY: This is a Notice of the Presidential declaration of a major disaster for the State of Illinois (FEMA-4676-DR), dated 10/14/2022.

Incident: Severe Storm and Flooding.

Incident Period: 07/25/2022 through 07/28/2022.

DATES: Issued on 10/14/2022.

Physical Loan Application Deadline Date: 12/13/2022.

Economic Injury (EIDL) Loan Application Deadline Date: 07/14/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 10/14/2022, applications for disaster loans may be filed at the address listed above or other locally announced locations.

The following areas have been determined to be adversely affected by the disaster:

Primary Counties (Physical Damage and Economic Injury Loans): Saint Clair.

Contiguous Counties (Economic Injury Loans Only):

Illinois: Clinton, Madison, Monroe, Randolph, Washington.

Missouri: Saint Louis, Saint Louis City.

The Interest Rates are:

| Percent
For Physical Damage:
Homeowners with Credit Available Elsewhere | 3.375
Homeowners without Credit Available Elsewhere | 1.688
Businesses with Credit Available Elsewhere | 5.870
Businesses without Credit Available Elsewhere | 2.935
Non-Profit Organizations with Credit Available Elsewhere | 1.875
Non-Profit Organizations without Credit Available Elsewhere | 1.875
For Economic Injury:
Businesses & Small Agricultural Cooperatives without Credit Available Elsewhere | 2.935
Non-Profit Organizations without Credit Available Elsewhere | 1.875

The number assigned to this disaster for physical damage is 17677 6 and for economic injury is 17678 0.

(Catalog of Federal Domestic Assistance Number 59008)

Rafaela Monchek,
Acting Associate Administrator for Disaster Assistance.

[FR Doc. 2022-23060 Filed 10-21-22; 8:45 am]

BILLING CODE 8026-09-P